DEPARTMENT OF ENERGY

Federal Energy Regulatory Commission

Combined Notice of Filings

September 15, 2015.

Take notice that the Commission has received the following Natural Gas Pipeline Rate and Refund Report filings:

Filings Instituting Proceedings

Docket Numbers: RP15-1269-000.

Applicants: Gulf Shore Energy Partners, LP.

Description: § 4(d) Rate Filing: Gulf Shore Energy—Change of Ownership Filing to be effective 10/1/2015.

Filed Date: 9/14/15.

Accession Number: 20150914-5124.

Comments Due: 5 p.m. ET 9/28/15.

Docket Numbers: RP15-1270-000.

Applicants: Gulf South Pipeline Company, LP.

Description: § 4(d) Rate Filing: Reclassify NC Amgt as NC Neg Rate Agmt (Atmos 9399) to be effective 1/1/2015.

Filed Date: 9/15/15.

Accession Number: 20150915-5017.

Comments Due: 5 p.m. ET 9/28/15.

Docket Numbers: RP15-1271-000.

Applicants: Dominion Cove Point LNG, LP.

Description: Compliance filing DCP—2015 Revenue Crediting Report.

Filed Date: 9/15/15.

Accession Number: 20150915-5028.

Comments Due: 5 p.m. ET 9/28/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-1188-001.

Applicants: National Fuel Gas Supply Corporation.

Description: Tariff Amendment: Scheduling & Curtailment (RP15-1188 Amendment) to be effective 10/1/2015.

Filed Date: 9/14/15.

Accession Number: 20150914-5195.

Comments Due: 5 p.m. ET 9/28/15.

Docket Numbers: RP15-1189-001.

Applicants: Empire Pipeline, Inc.

Description: Tariff Amendment: Scheduling & Curtailment (RP15-1189 Amendment) Empire to be effective 10/1/2015.

Filed Date: 9/14/15.

Accession Number: 20150914-5189.

Comments Due: 5 p.m. ET 9/28/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2015.
Nathaniel J. Davis, Sr.,
Deputy Secretary.

[FR Doc. 2015-23986 Filed 9-21-15; 8:45 am]

BILLING CODE 6717-01P